DEPARTMENT OF LABOR

Employment and Training Administration

[TA-W-61,759]

Agilent Technologies Global Infrastructure Organization Loveland, Colorado; Notice of Termination of Investigation

Pursuant to Section 221 of the Trade Act of 1974, as amended, an investigation was initiated on June 28, 2007 in response to a petition filed by a company official on behalf of a worker of Agilent Technologies, Electronic Measurements Group, Loveland, Colorado, in support of Agilent Technologies, Global Infrastructure Organization, Santa Clara, California.

The worker on whose behalf the petition is filed is covered by an active certification, (TA-W-60,320, as amended) which expires on November 21, 2008. Consequently, further investigation in this case would serve no purpose, and the investigation has been terminated.

Signed at Washington, DC this 5th day of July 2007.
Richard Church,
Certifying Officer, Division of Trade Adjustment Assistance.

[FR Doc. E7-13777 Filed 7-16-07; 8:45 am]

BILLING CODE 4510-FN-P